DEPARTMENT OF TRANSPORTATION

Federal Aviation Administration

14 CFR Part 39

[Docket No. FAA-2012-0018; Directorate Identifier 2011-CE-042-AD; Amendment 39-16997; AD 2012-06-16]

RIN 2120-AA64

Airworthiness Directives; Pilatus Aircraft Ltd. Airplanes

AGENCY: Federal Aviation Administration (FAA), Department of Transportation (DOT).

ACTION: Final rule.

SUMMARY: We are adopting a new airworthiness directive (AD) for Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. This AD results from mandatory continuing airworthiness information (MCAI) issued by an aviation authority of another country to identify and correct an unsafe condition on an aviation product. The MCAI describes the unsafe condition as loose elevator and rudder hinge bolts caused by incorrect torquing and locking of the bolts, which could lead to in-flight failure of the elevator or rudder attachment. We are issuing this AD to require actions to address the unsafe condition on these products.

DATES: This AD is effective May 4, 2012.

The Director of the Federal Register approved the incorporation by reference of a certain publication listed in the AD as of May 4, 2012.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact PILATUS AIRCRAFT LTD., Customer Liaison Manager, CH-6371 STANS, Switzerland; telephone: +41 (0) 41 619 65 80; fax: +41 (0) 41 619 65 76; Internet: http://www.pilatus-aircraft.com. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to include an AD that would apply to the specified products. That NPRM was published in the Federal Register on January 17, 2012 (77 FR 2238). That NPRM proposed to correct an unsafe condition for the specified products. The MCAI states:

A case of loss of elevator and rudder hinge bolts on a PC-6 aeroplane has been reported.

The results of the investigations indicate that the elevator and rudder hinge bolt loss are suspected to have been caused by an incorrect torque and locking of the bolts.

This condition, if not detected and corrected, could lead to in-flight failure of the elevator or rudder attachment, possibly resulting in loss of control of the aeroplane.

For the reasons described above, this AD requires the installation of a new locking screw and the modification of the installation of the hinge bolt.

You may obtain further information by examining the MCAI in the AD docket.

Comments

We gave the public the opportunity to participate in developing this AD. We received no comments on the NPRM (77 FR 2238, January 17, 2012) or on the determination of the cost to the public.

Conclusion

We reviewed the relevant data and determined that air safety and the public interest require adopting the AD as proposed except for minor editorial changes. We have determined that these minor changes:

• Are consistent with the intent that was proposed in the NPRM (77 FR 2238, January 17, 2012) for correcting the unsafe condition; and

• Do not add any additional burden upon the public than was already proposed in the NPRM (77 FR 2238, January 17, 2012).

Costs of Compliance

We estimate that this AD will affect 50 products of U.S. registry. We also estimate that it will take about 5 work-hours per product to comply with the basic requirements of this AD. The average labor rate is $85 per work-hour. Required parts will cost about $100 per product.

Based on these figures, we estimate the cost of this AD on U.S. operators to be $26,250, or $525 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM (77 FR 2238, January 17, 2012), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-16 Pilatus Aircraft Ltd.: Amendment 39-16997; Docket No. FAA-2012-0018; Directorate Identifier 2011-CE-042-AD.

(a) Effective Date

This airworthiness directive (AD) becomes effective May 4, 2012.

(b) Affected ADs

None.

(c) Applicability

This AD applies to Pilatus Aircraft Ltd. Models PC-6, PC-6-Hl, PC-6-H2, PC-6/350, PC-6/350-Hl, PC-6/350-H2, PC-6/A, PC-6/A-Hl, PC-6/A-H2, PC-6/B-H2, PC-6/Bl-H2, PC-6/B2-H2, PC-6/B2-H4, PC-6/C-H2, and PC-6/Cl-H2 airplanes, all Pilatus manufacturer serial numbers (MSN), and MSN 2001 through 2092, certificated in any category.

Note 1 to paragraph (c) of this AD: For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 55: Stabilizer.

(e) Reason

This AD was prompted mandatory continuing airworthiness information (MCAI) issued by an aviation authority of another country to identify and correct an unsafe condition on an aviation product. The MCAI describes the unsafe condition as loose elevator and rudder hinge bolts caused by incorrect torquing and locking of the bolts. We are issuing this AD to prevent in-flight failure of the elevator or rudder attachment, which could result in loss of control of the airplane.

(f) Actions and Compliance

Unless already done, do the following actions:

(1) For airplanes that have not been modified before May 4, 2012 (the effective date of this AD) following Pilatus Aircraft Ltd. PC-6 Service Bulletin No. 55-001 at initial issue, within 2 months after May 4, 2012 (the effective date of this AD), install new elevator and rudder hinge bolt locking screws and modify the installation of the hinge bolt following the Accomplishment Instructions in Pilatus Aircraft Ltd. PC-6 Service Bulletin No. 55-001, Rev. No. 1, dated November 25, 2011.

(2) For airplanes that have been modified before May 4, 2012 (the effective date of this AD) following Pilatus Aircraft Ltd. PC-6 Service Bulletin No. 55-001 at initial issue, within 6 months after May 4, 2012 (the effective date of this AD), install new elevator and rudder hinge bolt locking screws following the Accomplishment Instruction of Pilatus Aircraft Ltd. PC-6 Service Bulletin No. 55-001, Rev. No. 1, dated November 25, 2011.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No. 2011-0230, dated December 9, 2011, and Pilatus Aircraft Ltd. PC-6 Service Bulletin No. 55-001, Rev. No. 1, dated November 25, 2011, for related information.

(i) Material Incorporated by Reference

(1) You must use Pilatus Aircraft Ltd. PC-6 Service Bulletin No. 55-001, Rev. No. 1, dated November 25, 2011, to do the actions required by this AD, unless the AD specifies otherwise. The Director of the Federal Register approved the incorporation by reference (IBR) under 5 U.S.C. 552(a) and 1 CFR part 51.

(2) For service information identified in this AD, contact PILATUS AIRCRAFT LTD., Customer Liaison Manager, CH-6371 STANS, Switzerland; telephone: +41 (0) 41 619 65 80; fax: +41 (0) 41 619 65 76; Internet: http://www.pilatus-aircraft.com.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on March 19, 2012.
Earl Lawrence,
Manager, Small Airplane Directorate, Aircraft Certification Service.

[FR Doc. 2012-6999 Filed 3-29-12; 8:45 am]

BILLING CODE 4910-13-P